DEPARTMENT OF JUSTICE

Notice of Lodging of Proposed Consent Decree Under the Clean Water Act, Clean Air Act, Emergency Planning and Community Right-To-Know Act, and Resource Conservation and Recovery Act

On September 12, 2017, the Department of Justice lodged a proposed consent decree with the United States District Court for the Western District of Pennsylvania in the lawsuit entitled United States v. StarKist Co. and Starkist Samoa Co., Civil Action No. 2:17-cv-01190-DSC.

The United States filed this lawsuit under the Clean Water Act (CWA), Clean Air Act (CAA), Emergency Planning and Community Right-to-Know Act (EPCRA), and the Resource Conservation and Recovery Act (RCRA). The complaint seeks injunctive relief and civil penalties for violations of these statutes and their implementing regulations at defendants' seafood processing and canning facility in American Samoa. Specifically, the complaint alleges the following CWA violations: (1) Unpermitted discharges of wastewater through an outfall rupture in 2014; (2) violations of terms and conditions of the facility's National Pollutant Discharge Elimination System Permit, including effluent limit violations; and (3) violations of the CWA's Spill Prevention Control and Countermeasures regulations related to the facility's oil storage tanks. The complaint also alleges violations of the Clean Air Act related to the handling of ammonia, butane, and chlorine at the facility. Finally, the complaint also alleges violations of the CAA, EPCRA, and RCRA that the defendants disclosed to EPA following an audit.

The proposed consent decree requires the defendants to perform injunctive relief, pay a $6,300,000 civil penalty, and perform a Supplemental Environmental Project benefitting local first responders. The injunctive relief includes: Installing and operating upgrades to the facility's wastewater treatment system; upgrading the facility's oil storage tanks; making improvements to the facility's ammonia refrigeration system to prevent and minimize potential releases; discontinuing use of chlorine gas and a butane filling station at the facility; implementing an environmental management system for the facility; and performing annual third-party compliance audits. The Supplemental Environmental Project requires defendants to purchase and donate certain emergency response equipment to the American Samoa Fire Department.

The publication of this notice opens a period for public comment on the proposed consent decree. Comments should be addressed to the Assistant Attorney General, Environment and Natural Resources Division, and should refer to United States v. StarKist Co. and Starkist Samoa Co., D.J. Ref. No. 90-5-1-1-11357. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.25 (25 cents per page reproduction cost) payable to the United States Treasury.

Henry S. Friedman,
Assistant Section Chief, Environmental Enforcement Section, Environment and Natural Resources Division.

[FR Doc. 2017-19715 Filed 9-15-17; 8:45 am]

BILLING CODE 4410-15-P